DEPARTMENT OF COMMERCE

Foreign-Trade Zones Board

[Docket 16-2005]

Proposed Foreign-Trade Zone—Dane County, WI; Application and Public Hearing

An application has been submitted to the Foreign-Trade Zones (FTZ) Board (the Board) by Dane County, Wisconsin, to establish a general-purpose foreign-trade zone at sites in Dane County, Wisconsin, adjacent to the Milwaukee Customs port of entry. The FTZ application was submitted pursuant to the provisions of the FTZ Act, as amended (19 U.S.C. 81a-81u), and the regulations of the Board (15 CFR part 400). It was formally filed on March 17, 2005. The applicant is authorized to make the proposal under Wisconsin Statutes 01-02, Section 182.50. The proposed zone would be the second general-purpose zone in the Milwaukee, Wisconsin, Customs port of entry. The existing zone is as follows: FTZ 41, Milwaukee, Wisconsin (Grantee: Foreign-Trade Zone of Wisconsin, Ltd., Board Order 136, 9/29/78).

The proposed zone would consist of 5 sites covering 648 acres in the Madison, Wisconsin, area: Site 1 (3 parcels, 123 acres)—Dane County Regional Airport, 4000 International Lane, Madison; Site 2 (5 parcels, 47 acres)—Capital Warehousing Corporation, 4461 Duraform Lane, Windsor; Site 3 (2 parcels, 213 acres)—Arlington Prairie Industrial Park, Arlington; Site 4 (6 parcels, 139 acres)—Center for Industry & Commerce, U.S. Hwy 51 and Hoepker Rd and Hanson Rd, Madison; Site 5 (2 parcels, 126 acres)—MadCap1 and CapWin19 industrial lots, 4355 Duraform Lane, DeForest.

The application indicates a need for zone services in the Madison, Wisconsin, area. Several firms have indicated an interest in using for zone procedures for warehousing/distribution activities for such products as frozen foods and consumer goods. Specific manufacturing requests are not being sought at this time. Requests would be made to the Board on a case-by-case basis.

In accordance with the Board's regulations, a member of the FTZ Staff has been designated examiner to investigate the application and report to the Board.

As part of this investigation, the Commerce examiner will hold a public hearing on April 20, 2005, at 10 a.m., at the Dane County Regional Airport, 4000 International Lane, Robert B. Skuldt Conference Room, Madison, Wisconsin.

Public comment on the application is invited from interested parties. Submissions (original and 3 copies) shall be addressed to the Board's Executive Secretary at one of the following addresses:

1. Submissions via Express/Package Delivery Service: Foreign-Trade Zones Board, U.S. Department of Commerce, Franklin Court Building-Suite 4100W, 1099-14th Street, NW., Washington, DC 20005:, or

2. Submissions via the U.S. Postal Service: Foreign-Trade Zones Board, U.S. Department of Commerce, FCB—Suite 4100W, 1401 Constitution Avenue NW., Washington, DC 20230.

The closing period for their receipt is May 23, 2005. Rebuttal comments in response to material submitted during the foregoing period may be submitted during the subsequent 15-day period (to June 7, 2005).

A copy of the application and accompanying exhibits will be available for public inspection at the Office of the Foreign-Trade Zones Board's Executive Secretary at the first address listed above, and at the Office of the County Executive, City-County Building, Room 421, 210 Martin Luther King, Jr. Boulevard, Madison, Wisconsin 53703-3345.

Dated: March 17, 2005.
Dennis Puccinelli,
Executive Secretary.

[FR Doc. 05-5836 Filed 3-23-05; 8:45 am]

BILLING CODE 3510-DS-P